DEPARTMENT OF AGRICULTURE

National Institute of Food and Agriculture

Solicitation of Input From Stakeholders on the Tribal Colleges Research Grants Program, Tribal Colleges Education Equity Grants Program and Tribal Colleges Extension Services Program

AGENCY: National Institute of Food and Agriculture, USDA.

ACTION: Request for written stakeholder input.

SUMMARY: The National Institute of Food and Agriculture (NIFA) is requesting written stakeholder input on the following NIFA grant programs: (1) Tribal College Research Grants Program, (2) Tribal Colleges Education Equity Grants Program, and (3) Tribal Colleges Extension Services Program. The programs are authorized under Sections 534(a), 534(b), and 536 of the Equity in Educational Land-Grant Status Act of 1994.

Tribal College Research Grants Program

Authority for this program is contained in section 536 of the Equity in Educational Land-Grant Status Act of 1994 (7 U.S.C. 301 note), as amended (hereinafter “the Act”). In accordance with the statutory authority, subject to the availability of funds, the Secretary of Agriculture may award competitive grants to assist the 1994 Land-Grant Institutions (hereinafter “1994 Institutions”) in conducting agricultural research that addresses high priority concerns of Tribal, national or multi-State significance.

Tribal Colleges Education Equity Grants Program

Authority for this program is contained in section 534(a) of the Act. Subject to the availability of appropriations, the U.S. Department of Agriculture (USDA), through the National Institute of Food and Agriculture (NIFA), will award grants to the thirty-four 1994 Institutions as defined in section 532 of the Act. This Act, in Section 533(a), requires that each 1994 Institution be accredited or making progress towards accreditation to receive funding under this and the other programs. The purpose of this program is to enhance educational opportunities for Native Americans by strengthening instructional programs in the food and agricultural sciences at the thirty-four colleges or universities designated as 1994 Institutions.

Tribal Colleges Extension Services Program

Authority for this program is contained in section 534(b) of the Act. This section amends section 3 of the Act of May 8, 1914 (Smith-Lever Act) (7 U.S.C. 343). Under this authority, appropriated funds are to be awarded to the 1994 Institutions for Extension work and funds are to be distributed on the basis of a competitive application process.

By this notice, NIFA is soliciting public comment and stakeholder input from interested parties regarding the future design and implementation of the 1994 Tribal College Grant Programs described above.

DATES: All written comments must be received by November 27, 2009.

ADDRESSES: You may submit comments, identified by NIFA-2009-0008, through the Federal eRulemaking Portal: http://www.regulations.gov. Follow the instructions for submitting comments. Include NIFA-2009-0008 in the subject line of the message.

Fax: (202) 401-7752.

Mail: Paper, disk or CD-ROM submissions should be submitted to Office of Extramural Programs Unit, National Institute of Food and Agriculture, U.S. Department of Agriculture, Mail Stop 2299, 1400 Independence Avenue, SW., Washington, DC 20250-2299.

Hand Delivery/Courier: Joanna Moore, Office of Extramural Programs Unit, National Institute of Food and Agriculture, U.S. Department of Agriculture, Room 2250, Waterfront Centre, 800 9th Street, SW., Washington, DC 20024.

Instructions: All submissions received must include the Title, “1994 Tribal Colleges” and NIFA-2009-0008. All comments received will be posted to http://www.regulations.gov, including any personal information provided.

FOR FURTHER INFORMATION CONTACT: Joan Gill, 202-720-6487 (phone), 202-720-2030 (fax), jgill@nifa.usda.gov or Saleia Afele-Faamuli, 202-720-0384 (phone), 202-720-2030 (fax), sfaamuli@nifa.usda.gov.

SUPPLEMENTARY INFORMATION: On October 1, 2009, all programs and authorities delegated to the Cooperative State Research, Education, and Extension Service (CSREES) were transferred to the NIFA per section 7511 of the Food, Conservation, and Energy Act of 2008 (Pub. L. 110-246).

Background and Summary

Purpose

NIFA is considering releasing the Request for Applications (RFAs) for all three Tribal College Programs on the same day in mid December 2009 with the due date for application submission on the same day in early March 2010. The peer review panel for each of the programs will be conducted during early May 2010. For existing grantees, the RFA will request all applicants provide evidence of a college plan or roadmap showing that active projects funded through any of the three 1994 Tribal Colleges programs are being utilized in a coordinated manner within the college's land grant office or mission area. In addition, existing grantees will be asked to numerically indicate any recruiting, retention, course or degree enrollments, internships, outreach clients or graduation rates, or other indicators of program activity in the food and agriculture initiatives supported by active grants from the aforementioned programs.

The purpose of the grant programs is designed to build the land-grant capability in institutional teaching, research, and extension capacities of the eligible institutions in the following three major goals:

(1) To advance cultural diversity of the food and agricultural scientific and professional work force by attracting and educating more students from underrepresented groups;

(2) To strengthen linkages among the 1994 Institutions, other colleges and universities, USDA, and private industry; and

(3) To enhance the quality of teaching, research, and extension programs at the 1994 Institutions to enable them to better serve their students and communities by building capacity to provide science based information and decision making to solve problems and take advantage of opportunities—thus establishing them as relevant partners in the U.S. food and agricultural sciences higher education system.

In developing the FY 2010 1994 Tribal College RFAs, NIFA plans to consider all stakeholder input and the written comments received in response to this notice.

Done at Washington, DC, this 22nd day of October, 2009.
Ralph Otto,
Associate Administrator, National Institute of Food and Agriculture.

[FR Doc. E9-25854 Filed 10-27-09; 8:45 am]

BILLING CODE 3410-22-P